DEPARTMENT OF ENERGY

Federal Energy Regulatory Commission

[Docket No. CP08-164-000]

Tennessee Gas Pipeline Company; Notice of Request Under Blanket Authorization

May 7, 2008.

Take notice that on April 21, 2008, Tennessee Gas Pipeline Company (Tennessee), 1001 Louisiana, Houston, Texas 77002, filed in Docket No. CP08-164-000, a prior notice request pursuant to sections 157.205 and 157.216 of the Federal Energy Regulatory Commission's regulations under the Natural Gas Act for authorization to abandon by sale to Sea Robin Pipeline Company (Sea Robin), offshore pipelines designated as Line Nos. 524X-100 and 524X-200 and Tennessee's ownership interest in Line No. 524X-1600, located in offshore Louisiana, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Tennessee proposes to abandon by sale to Sea Robin, Tennessee's remaining portion of Line No. 524X-100, consisting of a sub-sea tap assembly on a Sea Robin pipeline and approximately 120 feet of twelve-inch diameter pipeline; Line No. 524X-200, consisting of approximately 7.3 miles of twelve-inch diameter lateral pipeline with associated appurtenances; and Tennessee's ownership interest, 8.17%, in Line No. 524X-1600. Tennessee states that Sea Robin cooperated in a plan to return Line Nos. 524X-200 and 524X-1600 to service by allowing a new interconnection to its system. Tennessee asserts that because Tennessee provides comprehensive receipt and delivery points for interruptible shippers, contracts between Tennessee and its customers will not be impacted by the sale.

Any questions regarding the application should be directed to Jay V. Allen, Senior Counsel, Tennessee Gas Pipeline Company, 1001 Louisiana, Houston, Texas 77002, at (713) 420-5589 or fax (713) 420-1601 or Juan Eligio, Analyst, Certificates & Regulatory Compliance, at (713) 420-3294 or fax (713) 420-1605.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (www.ferc.gov) under the “e-Filing” link.

Kimberly D. Bose,
Secretary.

[FR Doc. E8-10958 Filed 5-15-08; 8:45 am]

BILLING CODE 6717-01-P